DEPARTMENT OF ENERGY

Federal Energy Regulatory Commission

[Docket No. RP02-82-000]

Florida Gas Transmission Company; Notice of Proposed Changes in FERC Gas Tariff

December 5, 2001.

Take notice that on November 30, 2001, Florida Gas Transmission Company (FGT) tendered for filing to become part of its FERC Gas Tariff, Third Revised Volume No. 1, the following tariff sheets, with an effective date of January 1, 2002:

Fifth Revised Sheet No. 131

Third Revised Sheet No. 133

Fifth Revised Sheet No. 184B

First Revised Sheet No. 184B.01

Second Revised Sheet No. 184C

FGT states that the cash-out pricing provisions of its Tariff have ceased to discourage imbalances and, during periods of price volatility, actually encourage or reward imbalances. FGT states that during the cash-out Settlement Period 9, FGT experienced an underrecovery in its cash-out mechanism of $5,377,712 and an overall underrecovery of its system balancing costs and revenues of $7,140,225.

FGT states that it is filing changes to its cash-out provisions to base its imbalance settlement prices on an arithmetic average of Gas Daily daily prices from the sixth day of the applicable month to the fifth day of the following month in order to reduce a bias to first of the month pricing and create uncertainty as to the prices to be paid or received by imbalance parties for month-end imbalances. In addition, FGT is proposing an interest component to be applied to cumulative monthly imbalances beginning with the cumulative net balance at the end of Settlement Period 9 ended September 30, 2001.

Finally, FGT states that it is filing to make certain clarifying changes to Section 19.1 of the General Terms and Conditions of its Tariff to reflect the methodology and format used by FGT in preparation of the Annual Report of system balancing activities. FGT states that the clarifications will result in no changes to the preparation of the Annual Report, but rather conform the tariff mechanics to the methodology and format historically used by FGT.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30572 Filed 12-10-01; 8:45 am]

BILLING CODE 6717-01-P